RAILROAD RETIREMENT BOARD

Agency Forms Submitted for OMB Review, Request for Comments

SUMMARY: In accordance with the Paperwork Reduction Act of 1995 (44 U.S.C. Chapter 35), the Railroad Retirement Board (RRB) will be sending an Information Collection Request (ICR) to the Office of Information and Regulatory Affairs (OIRA), Office of Management and Budget (OMB) to request a revision to the following collection of information: 3220-0042, Application for Spouse Annuity Under the Railroad Retirement Act, consisting of RRB Form(s) AA-3, Application for Spouse/Divorced Spouse Annuity and AA-3cert, Application Summary and Certification. Our ICR describes the information we seek to collect from the public. Review and approval by OIRA ensures that we impose appropriate paperwork burdens.

The RRB invites comments on the proposed collection of information to determine: (1) The practical utility of the collection; (2) the accuracy of the estimated burden of the collection; (3) ways to enhance the quality, utility and clarity of the information that is the subject of collection; and (4) ways to minimize the burden of collections on respondents, including the use of automated collection techniques or other forms of information technology. Comments to RRB or OIRA must contain the OMB control number of the ICR. For proper consideration of your comments, it is best if RRB and OIRA receive them within 30 days of publication date.

Previous Requests for Comments: The RRB has already published the initial 60-day notice (71 FR 44727 on August 7, 2006) required by 44 U.S.C. 3506(c)(2). That request elicited no comments.

Information Collection Request (ICR)

Title: Application for Spouse Annuity Under the Railroad Retirement Act.

OMB Control Number: 3220-0042.

Form(s) submitted: AA-3, Application for Spouse/Divorced Spouse Annuity, AA-3cert, Application Summary and Certification.

Type of request: Revision of a currently approved collection.

Affected public: Individuals or households.

Obligation to Respond: Required to obtain or retain benefits.

Abstract: The Railroad Retirement Act provides for the payment of annuities to spouses of railroad retirement annuitants who meet the requirements under the Act. The application obtains information supporting the claim for benefits based on being a spouse of an annuitant. The information is used for determining entitlement to and amount of the annuity applied for.

Changes Proposed: The RRB proposes to add new items to Form(s) AA-3cert and AA-3 to further document an applicant's most recent nonrailroad work. The items ask for the applicant's most recent job title and whether their employer is a seasonal employer. Non-burden impacting changes are proposed to the certification statements of Form(s) AA-3cert and AA-3 that are intended to provide additional specificity regarding post-application events that require an applicant to contact the RRB. Other non-burden impacting, editorial (clarification) and formatting changes to Form AA-3cert and Form AA-3 are also proposed.

The burden estimate for this ICR is unchanged as follows:

Estimated annual number of respondents: 8,500.

Total annual responses: 8,500.

Total annual reporting hours: 4,297.

FOR FURTHER INFORMATION CONTACT: Copies of the form and supporting documents can be obtained from Charles Mierzwa, the agency clearance officer at (312-751-3363) or Charles.Mierzwa@rrb.gov.

Comments: Comments regarding the information collection should be addressed to Ronald J. Hodapp, Railroad Retirement Board, 844 North Rush Street, Chicago, Illinois 60611-2092 or Ronald.Hodapp@rrb.gov and to the OMB Desk Officer for the RRB, Karen Matsuoka at kmatsuoka@omb.eop.gov, fax (202) 395-6974.

Charles Mierzwa,
RRB Clearance Officer.

[FR Doc. E6-18961 Filed 11-8-06; 8:45 am]

BILLING CODE 7905-01-P